FEDERAL COMMUNICATIONS COMMISSION

47 CFR Part 73

[DA 06-11; MB Docket No. 03-219; RM-10797, RM-11094]

Radio Broadcasting Services; Clemmons, NC, Iron Gate, VA and Statesville, NC

AGENCY: Federal Communications Commission.

ACTION: Final rule.

SUMMARY: At the request of Mercury Broadcasting Company, Inc., licensee of Station WFMX (FM), Statesville, North Carolina, Channel 289C1 is substituted for Channel 289C at Statesville, realloted from Statesville to Clemmons, North Carolina, as the community's first local transmission service, and the license for Station WFMX (FM) is modified to reflect the changes. To accommodate the counterproposal filed by Dick Broadcasting Company of Tennessee, licensee of Stations WKZL (FM), Winston-Salem, North Carolina, and WKRR (FM), Asheboro, North Carolina, Channel 270A is allotted at Iron Gate, Virginia. Channel 289C1 is reallotted at Clemmons at a site 32 kilometers (19.9 miles) north of the community at coordinates 36-17-30 NL and 80-15-30 WL. Channel 270A is allotted at Iron Gate, Virginia with a site restriction of 1.5 kilometers (0.9 miles) northwest of the community at coordinates 37-48-14 NL and 79-48-23 WL.

DATES: Effective February 21, 2006.

ADDRESSES: Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 06-11, adopted January 4, 2006, and released January 6, 2006. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by adding Clemmons, Channel 289C1 and by removing Channel 289C at Statesville.

3. Section 73.202(b), the Table of FM Allotments under Virginia, is amended by adding Iron Gate, Channel 270A.

Federal Communications Commission.
John A. Karousos,
Assistant Chief, Audio Division, Media Bureau.

[FR Doc. 06-706 Filed 1-24-06; 8:45 am]

BILLING CODE 6712-01-P